HARRY S. TRUMAN SCHOLARSHIP FOUNDATION

Notice of Intent To Seek Approval To Extend an Information Collection

AGENCY: Harry S. Truman Scholarship Foundation.

ACTION: Submission for OMB review; comment request.

SUMMARY: The Truman Scholarship Foundation [Foundation] has submitted the following information collection requirement to OMB for review and clearance under the Paperwork Reduction Act of 1995, Public Law 104-13. This is the second notice for public comment: the first was published in the Federal Register [May 3, 2000 (Volume 65, Number 86), Page 25730], and no comments were received. The Foundation is forwarding the proposed renewal submission to OMB for clearance simultaneously with the publication of this second notice.

Comments: Comments regarding [a] whether the information is necessary for the proper performance of the functions of the agency, including whether the information will have practical utility; [b] the accuracy of the agency's estimate of burden including the validity of the methodology and assumptions used; [c] ways to enhance the quality, utility and clarity of the information to be collected; or [d] ways to minimize the burden of the collection of information on those who are to respond, including through the use of appropriate automated, electronic, mechanical, or other technological collection techniques for other forms of information technology should be addressed to: Office of Information and Regulatory Affairs of OMB, Attention: Desk Officer for the Harry S. Truman Scholarship Foundation, 725 17th Street, NW, Room 10235, Washington, DC 20503, and to Louis H. Blair, Executive Secretary, Harry S. Truman Scholarship Foundation, 712 Jackson Place, NW, Washington, DC 20005 or send e-mail to Lblair@truman.gov.

DATES: Comments regarding this information collection is best assured of having their full effect if received on or before August 8, 2000. Copies of the submission may be obtained at 202-395-7433.

FOR FURTHER INFORMATION CONTACT: Louis H. Blair, Executive Secretary, Harry S. Truman Scholarship Foundation, 712 Jackson Place, NW, Washington, DC 20005 or send e-mail to Lblair@truman.gov.

The Foundation may not conduct a collection of information unless the collection displays a currently valid OMB control number and the agency informs potential persons who are to respond to the collection of information that such persons are not required to respond to the collection of information unless it displays a currently valid OMB control number.

SUPPLEMENTARY INFORMATION: Title of Collection: Truman Scholarship Application

OMB Approval Number: 3200-0004

Proposed Project: The foundation has been providing scholarships since 1977 in compliance with PL 93-642. This data collection instrument is used to collect essential information to enable the Truman Scholarship Finalists Selection Committee to determine whom to invite to interviews. It is used by Regional Review Panels as essential background information on the Finalists whom they interview and ultimately the Truman Scholars they select. A total response rate of 100% was provided by the 598 candidates who applied for Year 2000 Truman Scholarships.

Estimate of Burden: The foundation estimates that, on average, 50 hours per respondent will be required to complete the application, for a total of 30,000 hours for all respondents.

Respondents: Individuals.

Estimated Number of Responses: 600

Estimated Total Annual Burden on Respondents: 30,000 hours

Dated: July 6, 2000.
Louis H. Blair,
Executive Secretary.

[FR Doc. 00-17564 Filed 7-10-00; 8:45 am]

BILLING CODE 6820-AD-M